DEPARTMENT OF TRANSPORTATION

Federal Aviation Administration

Notice of Intent To Rule on Application 04-11-C-00-BNA To Impose and Use the Revenue From a Passenger Facility Charge (PFC) at Nashville International Airport, Nashville, TN

AGENCY: Federal Aviation Administration (FAA), DOT.

ACTION: Notice of intent to rule on application.

SUMMARY: The FAA proposed to rule and invites public comment on the application to impose and use the revenue from a PFC at Nashville International Airport under the provisions of the 49 U.S.C. 40117 and part 158 of the Federal Aviation Regulations (14 CFR part 158).

DATES: Comments must be received on or before January 12, 2004.

ADDRESSES: Comments on this application may be mailed or delivered in triplicate to the FAA at the following address: Memphis Airports District Office, 2862 Business Park Drive, Building G. Memphis, Tennessee 38118-1555.

In addition, one copy of any comments submitted to the FAA must be mailed or delivered to Mr. Doug Wolfe, Senior Vice-President and Chief Financial Officer of the Metropolitan Nashville Airport Authority at the following address One Terminal Drive, Suite 501, Nashville, Tennessee, 37214.

Air carriers and foreign air carriers may submit copies of written comments previously provided to the Metropolitan Nashville Airport Authority under section 158.23 of Part 158.

FOR FURTHER INFORMATION CONTACT: Cynthia K. Wills, Program Manager, Memphis Airports District Office, 2862 Business Park Drive, Building G, Memphis, Tennessee 38118-1555, (901) 322-8190. The application may be reviewed in person at this same location.

SUPPLEMENTARY INFORMATION: The FAA proposes to rule and invites public comments on the application to impose and use the revenue from a PFC at Nashville International Airport under the provisions of the 49 U.S.C. 40117 and Part 158 of the Federal Aviation Regulations (14 CFR part 158).

On December 4, 2003, the FAA determined that the application to impose and use the revenue from a PFC submitted by Metropolitan Nashville Airport Authority was substantially complete within the requirements of section 158.25 of Part 158. The FAA will approve or disapprove the application, in whole or in part, no later than March 26, 2004.

The following is a brief overview of the application.

Proposed charge effective date: March 31, 2007.

Proposed charge expiration date: May 1, 2014.

Level of the proposed PFC: $3.00.

Total estimated PFC revenue: $81,526,000.

Brief description of proposed project(s): Airfield Construction, Develop GA Area, Engineering Study to Develop Land, PFC Eligible Project Reimbursement, Relocate Electrical Vault, Storm Water Treatment Facility Study, Widen TW Fillets.

Class or classes of air carriers which the public agency has requested not be required to collect PFCs: Part 135, Air Taxi.

Any person may inspect the application in person at the FAA office listed above under FOR FURTHER INFORMATION CONTACT and at the FAA regional Airports office located at: Southern Region Headquarters, 1701 Columbia Avenue, College Park, Georgia, 30337.

In addition, any person may, upon request, inspect the application, notice and other documents germane to the application in person at the Metropolitan Nashville Airport Authority.

Issued in Memphis, Tennessee, on December 4, 2003.
LaVerne F. Reid,
Manager, Memphis Airports District Office, Southern Region.

[FR Doc. 03-30741 Filed 12-11-03; 8:45 am]

BILLING CODE 4910-13-M